NATIONAL SCIENCE FOUNDATION

Committee on Equal Opportunities in Science and Engineering; Amended Notice of Meeting

In accordance with the Federal Advisory Committee Act (Pub. L. 92-463 as amended), notice is hereby given of a change in the agenda of a meeting of the Committee on Equal Opportunities in Science and Engineering, #1173 (published in Vol. 72, No. 9, page 1178 on January 16, 2007). Discussions with the Director of the National Science Foundation was originally scheduled for Thursday, February 1, 2007. This agenda item will now occur on Friday, February 2, 2007.

Dates/Time: February 1, 2007, 8:30 a.m.-5:30 p.m. and February 2, 2007, 8:30 a.m.-2 p.m.

Place: National Science Foundation, 4201 Wilson Boulevard, Room 1235 S, Arlington, VA 22230.

Type of Meeting: Open.

Contact Person: Dr. Margaret E.M. Tolbert, Senior Advisor and Executive Liaison, CEOSE, Office of Integrative Activities, National Science Foundation, 4201 Wilson Boulevard, Arlington, VA 22230 Telephone: (703) 292-8040, mtolbert@nsf.gov.

Minutes: May be obtained from the Executive Liaison at the above address.

Purpose of Meeting: To provide advice and recommendations concerning broadening participation in science and engineering.

Agenda:

Thursday, February 1, 2007

Welcome and Introduction of the New CEOSE Chair by the Outgoing CEOSE Chair, Opening Statement by the New CEOSE Chair.

Introductions

Presentations and Discussions:

• Broadening Participation Initiatives, Issues, and Achievements of a Major Office and a Directorate of the National Science Foundation

• Diversity Initiatives of the Chemistry Division of the National Science Foundation

• Report on NSF Funding to Minority Serving Institutions

• Ad Hoc Subcommittee Reports on Communications, Preparation of the CEOSE Biennial Report to Congress, Institutional Transformation, and Widening Creative Pathways

Public Comment Session (Sign up required).

Friday, February 2, 2007

Opening Statement by the New CEOSE Chair.

Presentation/Discussions:

• Discussion with the Director of the National Science Foundation

• Reports of CEOSE Liaisons to National Science Foundation Advisory Committees

• Briefing on AAAS Session, Lessons Learned: Broadening Federal Participation Efforts”, Scheduled for February 17, 2007

• Deliberations on Key Areas of Focus in the Future, Recommendations, and Action Items

Completion of Unfinished Business.

Dated: January 17, 2007.
Susanne Bolton,
Committee Management Officer.

[FR Doc. 07-222 Filed 1-19-07; 8:45 am]

BILLING CODE 7555-01-M